DEPARTMENT OF JUSTICE

Bureau of Prisons

Annual Determination of Average Cost of Incarceration

AGENCY: Bureau of Prisons, Justice.

ACTION: Notice.

SUMMARY: This Notice publishes the annual determination of average cost of incarceration for the Fiscal Years (FY) 2016 and 2017. The fee to cover the average cost of incarceration for Federal inmates was $34,704.12 ($94.82 per day) in FY 2016 and $36,299.25 ($99.45 per day) in FY 2017. The average annual cost to confine an inmate in a Residential Re-entry Center was $29,166.54 ($79.69 per day) for FY 2016 and $32,309.80 ($88.52 per day) for FY 2017.

DATES: Applicable Date: April 30, 2018.

ADDRESSES: Office of General Counsel, Federal Bureau of Prisons, 320 First St. NW, Washington, DC 20534.

FOR FURTHER INFORMATION CONTACT: Sarah Qureshi, (202) 353-8248.

SUPPLEMENTARY INFORMATION:

Title 28 of the Code of Federal Regulations, part 505, allows for assessment and collection of a fee to cover the average cost of incarceration for Federal inmates. Under § 505.2, this fee is calculated by dividing the number representing Bureau of Prisons (Bureau) facilities' monetary obligation (excluding activation costs) by the number of inmate-days incurred for the preceding fiscal year, and then by multiplying the quotient by the number of days in the fiscal year.

Based on FY 2016 and FY 2017 data, the fee to cover the average cost of incarceration for Federal inmates was $34,704.12 ($94.82 per day) in FY 2016 and $36,299.25 ($99.45 per day) in FY 2017. The average annual cost to confine an inmate in a Residential Re-entry Center was $29,166.54 ($79.69 per day) for FY 2016 and $32,309.80 ($88.52 per day) for FY 2017. (Note: There were 366 days in FY 2016 and 365 days in FY 2017.)

Ken Hyle,
General Counsel, Federal Bureau of Prisons.

[FR Doc. 2018-09062 Filed 4-27-18; 8:45 am]

BILLING CODE 4410-05-P